DEPARTMENT OF COMMERCE

National Oceanic and Atmospheric Administration

[RTID 0648-XC131]

Takes of Marine Mammals Incidental to Specified Activities; Taking Marine Mammals Incidental to the North Jetty Maintenance and Repairs Project in Coos Bay, Oregon

AGENCY: National Marine Fisheries Service (NMFS), National Oceanic and Atmospheric Administration (NOAA), Commerce.

ACTION: Notice; proposed issuance of two Incidental Harassment Authorizations (IHAs); request for comments.

SUMMARY: NMFS received a request from the U.S. Army Corps of Engineers (USACE) for the reissuance of their two previously issued IHAs to take marine mammals incidental to in-water construction activities associated with the North Jetty Maintenance and Repairs Project in Coos Bay, Oregon. The IHAs were initially issued on January 3, 2020, with the first IHA (Year 1) effective from September 1, 2020 through August 31, 2021 and the second IHA (Year 2) effective from July 1, 2022 through June 30, 2023. The project has been delayed and none of the work covered in the IHAs has been conducted. NMFS is proposing to reissue the IHAs with the Year 1 IHA effective from September 1, 2022 through August 31, 2023 and the Year 2 IHA effective from March 1, 2024 through February 28, 2025. The scope of the activities and anticipated effects remain the same, authorized take numbers are not changed, and the required mitigation, monitoring, and reporting remains the same as included in the initial IHAs. Pursuant to the Marine Mammal Protection Act (MMPA), NMFS is requesting comments on its proposal to reissue the two IHAs to incidentally take marine mammals during the specified activities. NMFS is also requesting comments on a possible one-time, one-year renewal of each IHA that could be issued under certain circumstances and if all requirements are met, as described in Request for Public Comments at the end of this notice. NMFS will consider public comments prior to making any final decision on the issuance of the requested MMPA authorizations and agency responses will be summarized in the final notice of our decision.

DATES: Comments and information must be received no later than August 12, 2022.

ADDRESSES: Comments should be addressed to Jolie Harrison, Chief, Permits and Conservation Division, Office of Protected Resources, National Marine Fisheries Service. Written comments should be submitted via email to ITP.Fowler@noaa.gov.

Instructions: NMFS is not responsible for comments sent by any other method, to any other address or individual, or received after the end of the comment period. Comments, including all attachments, must not exceed a 25-megabyte file size. All comments received are a part of the public record and will generally be posted online at https://www.fisheries.noaa.gov/permit/incidental-take-authorizations-under-marine-mammal-protection-act without change. All personal identifying information (e.g., name, address) voluntarily submitted by the commenter may be publicly accessible. Do not submit confidential business information or otherwise sensitive or protected information.

FOR FURTHER INFORMATION CONTACT: Amy Fowler, Office of Protected Resources, NMFS, (301) 427-8401. Electronic copies of the original application and supporting documents (including NMFS FR notices of the original proposed and final authorizations, and the previous IHA), as well as a list of the references cited in this document, may be obtained online at: https://www.fisheries.noaa.gov/national/marine-mammal-protection/incidental-take-authorizations-construction-activities. In case of problems accessing these documents, please call the contact listed above.

SUPPLEMENTARY INFORMATION:

Background

The MMPA prohibits the “take” of marine mammals, with certain exceptions. Sections 101(a)(5)(A) and (D) of the MMPA (16 U.S.C. 1361 et seq.) direct the Secretary of Commerce (as delegated to NMFS) to allow, upon request, the incidental, but not intentional, taking of small numbers of marine mammals by U.S. citizens who engage in a specified activity (other than commercial fishing) within a specified geographical region if certain findings are made and either regulations are proposed or, if the taking is limited to harassment, a notice of a proposed incidental harassment authorization is provided to the public for review.

Authorization for incidental takings shall be granted if NMFS finds that the taking will have a negligible impact on the species or stock(s) and will not have an unmitigable adverse impact on the availability of the species or stock(s) for taking for subsistence uses (where relevant). Further, NMFS must prescribe the permissible methods of taking and other “means of effecting the least practicable adverse impact” on the affected species or stocks and their habitat, paying particular attention to rookeries, mating grounds, and areas of similar significance, and on the availability of the species or stocks for taking for certain subsistence uses (referred to in shorthand as “mitigation”); and requirements pertaining to the mitigation, monitoring and reporting of the takings are set forth. The definitions of all applicable MMPA statutory terms cited above are included in the relevant sections below.

National Environmental Policy Act

To comply with the National Environmental Policy Act of 1969 (NEPA; 42 U.S.C. 4321 et seq.) and NOAA Administrative Order (NAO) 216-6A, NMFS must review our proposed action (i.e., the issuance of IHAs) with respect to potential impacts on the human environment.

This action is consistent with categories of activities identified in Categorical Exclusion B4 (IHAs with no anticipated serious injury or mortality) of the Companion Manual for NOAA Administrative Order 216-6A, which do not individually or cumulatively have the potential for significant impacts on the quality of the human environment and for which we have not identified any extraordinary circumstances that would preclude this categorical exclusion. Accordingly, NMFS has preliminarily determined that the issuance of the proposed IHAs qualifies to be categorically excluded from further NEPA review.

We will review all comments submitted in response to this notice prior to concluding our NEPA process or making a final decision on the IHAs request.

History of Request

On March 18, 2019, NMFS received a request from USACE for two IHAs to take 7 species of marine mammals, by Level B harassment only, incidental to vibratory pile driving and removal associated with the North Jetty Maintenance and Repairs Project in Coos Bay, Oregon over the course of two years with pile installation occurring during Year 1 and pile removal occurring during Year 2. The application was deemed adequate and complete on September 10, 2019. Neither USACE nor NMFS expects injury, serious injury or mortality to result from this activity and, therefore, IHAs are appropriate. On January 3, 2020, NMFS issued the two IHAs to the USACE (85 FR 1140; January 9, 2020). The Year 1 IHA was effective from September 1, 2020 through August 31, 2021 and the Year 2 IHA was effective July 1, 2022 through June 30, 2023.

On February 20, 2021, the USACE notified NMFS that the project had been delayed and none of the work identified in the year 1 IHA (e.g., pile installation) had occurred. On May 4, 2021, NMFS reissued the Year 1 IHA, effective September 1, 2021 through August 31, 2022 (86 FR 24850; May 10, 2021).

On February 23, 2022, the USACE notified NMFS that the project had been further delayed and work had still not commenced. The USACE submitted an application for both IHAs to be reissued, with the Year 1 IHA effective from September 1, 2022 through August 31, 2023 and the Year 2 IHA effective from March 1, 2024 through February 28, 2025. NMFS has preliminarily determined that the USACE's proposed activities (including mitigation, monitoring, and reporting), estimated incidental take, and anticipated impacts on the affected stocks are the same as those analyzed and authorized in the initial IHAs. However, since the initial IHAs were issued several years ago, NMFS is requesting comments or additional information that may further inform our proposal to reissue the two IHAs to the USACE.

Description of the Proposed Activity and Anticipated Impacts

The reissued IHAs would include the same in-water construction activities (i.e., vibratory pile installation and removal) in the same locations that were described in the initial IHAs. The mitigation, monitoring, and reporting measures would remain the same as prescribed in the initial IHAs. NMFS refers the reader to the documents related to the initial IHAs issued on January 3, 2020 (available at https://www.fisheries.noaa.gov/action/incidental-take-authorization-us-army-corps-engineers-north-jetty-maintenance-and-repairs) for more detailed descriptions of the project activities. Other relevant documents include the Federal Register notice of proposed IHAs and request for comments (84 FR 56781; October 23, 2019), notice of issued IHAs (85 FR 1140; January 9, 2020), and notice of reissued Year 1 IHA (86 FR 24850; May 10, 2021).

Detailed Description of the Action

A detailed description of the USACE's proposed construction activities is found in these previous documents. The location, time of year, and nature of the activities, including the types of piles and methods of installation and removal, are identical to those described in the previous documents.

Description of Marine Mammals

A description of the marine mammals in the area of the activities is found in these previous documents, which remains applicable to these reissued IHAs as well. In addition, NMFS has review the draft 2021 Stock Assessment Reports (SARs; Carretta et al., 2021; Muto et al., 2021), information on relevant Unusual Mortality Events, and recent scientific literature, and determined that no new information affects our original analysis of impacts under the initial IHAs. The estimated abundances of the California Breeding stock of northern elephant seals (Mirounga angustirostris), the Northern California/Southern Oregon stock of harbor porpoises (Phocoena phocoena), the West Coast Transient stock of killer whales (Orcinus orca), and the Eastern U.S. stock of Steller sea lions (Eumetopias jubatus) in the 2021 draft SARs have all increased from the numbers presented in the Federal Register notices for the initial IHAs (84 FR 56781, October 23, 2019; 85 FR 1140, January 9, 2020).

Potential Effects on Marine Mammals and Their Habitat

A description of the potential effects of the specified activities on marine mammals and their habitat is found in the documents supporting the initial IHAs, which remains applicable to the proposed reissuance of the IHAs. There is no new information on potential effects.

Estimated Take

A detailed description of the methods and inputs used to estimate take for the specified activities are found in the notice of issuance of the initial IHAs (85 FR 1140; January 9, 2020). The methods of estimating take for the proposed reissued IHAs are identical to those used in the initial IHAs. The source levels, days of operation, and marine mammal density remain unchanged from the previously issued IHAs. Regarding proposed authorized take, the stocks taken, types of take, and methods of taking remain unchanged from the previously issued IHAs, as do the number of takes, which are indicated below.

Table 1—Proposed Take by Level B Harassment and as a Percentage of Stock Abundance in Each Year
Marine mammal | Level B harassment AZ sheets (or H-piles): YR-1 installation | Level B harassment 30-inch piles: YR-1 installation | Level B harassment AZ sheets (or H-piles): YR-2 removal | Level B harassment 30-inch piles: YR-2 removal | Total take by Level B harassment (percent of stock): YR-1 installation | Total take by Level B harassment (percent of stock): YR-2 removal
Harbor seal (Phoca vitulina) | 1,169 | 1,169 | 1,169 | 1,169 | 2,238 (9.45 percent) | 2,238 (9.45 percent).
Northern Elephant seal (Mirounga angustirostris) | 7 | 7 | 7 | 7 | 14 (<0.01 percent) | 14 (<0.01 percent).
Steller sea lion (Eumetopias jubatus) | 14 | 14 | 14 | 14 | 28 (0.06 percent) | 28 (0.06 percent).
California sea lion (Zalophus californianus) | 21 | 21 | 21 | 21 | 42 (0.02 percent) | 42 (0.02 percent).
Gray whale (Eschrichtius robustus) | 1 | 1 | 1 | 1 | 2 (<0.01 percent) | 2 (<0.01 percent).
Killer whale (Orcinus orca) | 2 |  | 2 |  | 2 (0.57 percent) | 2 (0.57 percent).
Harbor porpoise (Phocoena phocoena) | 2 | 2 | 2 | 2 | 4 (0.02 percent) | 4 (0.02 percent).

Description of Proposed Mitigation, Monitoring and Reporting Measures

The mitigation, monitoring, and reporting measures proposed here are identical to those included in the Federal Register notice announcing the issuance of the initial IHAs (85 FR 1140; January 9, 2020) and the discussion of the least practicable adverse impact included in that document remains accurate. Unless otherwise stated, the following measures are proposed for inclusion in both IHAs:

Timing Restrictions

All work would be conducted during daylight hours. If poor environmental conditions restrict visibility full visibility of the shutdown zone, pile installation would be delayed.

Shutdown Zone for In-Water Heavy Machinery Work

For in-water heavy machinery work other than pile driving, if a marine mammal comes within 10 m of such operations, operations would cease and vessels would reduce speed to the minimum level required to maintain steerage and safe working conditions.

Shutdown Zones

For all pile driving/removal activities, the USACE would establish shutdown zones for a marine mammal species that is greater than its corresponding Level A harassment zone. To be conservative, the USACE would implement one cetacean shutdown zone (55 meters (m)) and one pinniped shutdown zone (25 m) during any pile driving/removal activity (i.e., during sheet piles, H-piles, and 30-in steel pile installation and removal) (Table 2) which exceeds the maximum calculated PTS isopleths as described in Table 7 of the Federal Register notice announcing the issuance of the initial IHAs (85 FR 1140; January 9, 2020). The purpose of a shutdown zone is generally to define an area within which shutdown of the activity would occur upon sighting of a marine mammal (or in anticipation of an animal entering the defined area).

Table 2—Pile Driving Shutdown Zones During Project Activities
Activity | Shutdown zones (radial distance in m, area in square kilometers (km² *)): Low- frequency cetaceans | Shutdown zones (radial distance in m, area in square kilometers (km² *)): Mid- frequency cetaceans | Shutdown zones (radial distance in m, area in square kilometers (km² *)): High- frequency cetaceans | Shutdown zones (radial distance in m, area in square kilometers (km² *)): Phocid | Shutdown zones (radial distance in m, area in square kilometers (km² *)): Otariid
In-Water Construction Activities
Heavy machinery work (other than pile driving) | 10 (0.00015) | 10 (0.00015) | 10 (0.00015) | 10 (0.00015) | 10 (0.00015)
Vibratory Pile Driving/Removal
12-in H pile steel installation/removal | 55 (0.00475) | 55 (0.00475) | 55 (0.00475) | 25 (0.00098) | 25 (0.00098)
24-in sheet pile installation/removal | 55 (0.00475) | 55 (0.00475) | 55 (0.00475) | 25 (0.00098) | 25 (0.00098)
30-in pile installation/removal | 55 (0.00475) | 55 (0.00475) | 55 (0.00475) | 25 (0.00098) | 25 (0.00098)
* Note: km ² were divided by two to account for land.

Non-Authorized Take Prohibited

If a species enters or approaches the Level B harassment zone and that species is either not authorized for take or its authorized takes are met, pile driving and removal activities would shut down immediately using delay and shutdown procedures. Activities would not resume until the animal has been confirmed to have left the area or an observation time period of 15 minutes has elapsed for pinnipeds and small cetaceans and 30 minutes for large whales.

Pre-Activity Monitoring

Prior to the start of daily in-water construction activity, or whenever a break in pile driving of 30 min or longer occurs, protected species observers (PSOs) would observe the shutdown and monitoring zones for a period of 30 minutes. The shutdown zone would be cleared when a marine mammal has not been observed within the zone for that 30-minute period. If a marine mammal is observed within the shutdown zone, pile driving activities would not begin until the animal has left the shutdown zone or has not been observed for 15 min. If the Level B Harassment Monitoring Zone has been observed for 30 min and no marine mammals (for which take has not been authorized) are present within the zone, work would continue even if visibility becomes impaired within the Monitoring Zone. If a marine mammal for which take has been permitted is present in the Monitoring zone, piling activities would begin and Level B harassment take will be recorded.

Monitoring Zones

The USACE would establish and observe monitoring zones for Level B harassment. The monitoring zones for this project are areas where SPLs are equal to or exceed 120 dB rms (for vibratory pile driving/removal). For vibratory installation and removal of 12-inch H piles, the Level B harassment zone and monitoring zone would be 1,000 m. For vibratory installation and removal of 24-inch steel sheet piles, the Level B harassment zone and monitoring zone would be 4,642 m. For vibratory installation and removal of 30-inch steel pipe piles, the Level B harassment zone and monitoring zone would be 8,577 m. These zones provide utility for monitoring conducted for mitigation purposes (i.e., shutdown zone monitoring) by establishing monitoring protocols for areas adjacent to the shutdown zones. Monitoring of the Level B harassment zones enables observers to be aware of and communicate the presence of marine mammals in the project area, and thus prepare for potential shutdowns of activity. The USACE would also gather information to help better understand the impacts of their planned activities on species and their behavioral responses.

Visual Monitoring

Monitoring would be conducted 30 minutes before, during, and 30 minutes after all pile driving/removal activities. In addition, PSOs would record all incidents of marine mammal occurrence, regardless of distance from activity, and shall document any behavioral reactions in concert with distance from piles being driven/removed. Pile driving/removal activities include the time to install, remove a single pile or series of piles, as long as the time elapsed between uses of the pile driving equipment is no more than thirty minutes.

Monitoring would be conducted by PSOs from on land and boat. The number of PSOs would vary from one to three, depending on the type of pile driving, method of pile driving and size of pile, all of which determines the size of the harassment zones. Monitoring locations would be selected to provide an unobstructed view of all water within the shutdown zone and as much of the Level B harassment zone as possible for pile driving activities. During vibratory driving or removal of sheet or H-piles, two PSOs would be present. One PSO would be located on the shoreline adjacent to the Material Off-loading Facility (MOF) site or on the barge used for driving piles. The other PSO would be boat-based and detect animals in the water, along with monitoring the three haulout sites in the Level B harassment zone (i.e., Pigeon Point, Clam Island/North Spit, and South Slough). During vibratory driving and removal of 30-inch steel pipe piles, three PSOs would be present. As indicated above, one PSO would be on the shoreline or barge adjacent to the MOF site. A second PSO would be stationed near the South Slough haul out site, and the third PSO would be boat-based and make observations while actively monitoring at and between the two remaining haulout sites (i.e., Pigeon Point and Clam Island).

In addition, PSOs would work in shifts lasting no longer than 4 hours with at least a 1-hour break between shifts, and would not perform duties as a PSO for more than 12 hours in a 24-hour period (to reduce PSO fatigue).

Monitoring of pile driving would be conducted by qualified, NMFS-approved PSOs, who would have no other assigned tasks during monitoring periods. The USACE would adhere to the following conditions when selecting PSOs:

Independent PSOs must be used (i.e., not construction personnel);

At least one PSO must have prior experience working as a marine mammal observer during construction activities;

Other PSOs may substitute education (degree in biological science or related field) or training for experience;

Where a team of three or more PSOs are required, a lead observer or monitoring coordinator would be designated. The lead observer must have prior experience working as a marine mammal observer during construction; and

The USACE would submit PSO CVs for approval by NMFS for all observers prior to monitoring.

The USACE would ensure that the PSOs have the following additional qualifications:

Visual acuity in both eyes (correction is permissible) sufficient for discernment of moving targets at the water's surface with ability to estimate target size and distance; use of binoculars may be necessary to correctly identify the target;

Experience and ability to conduct field observations and collect data according to assigned protocols;

Experience or training in the field identification of marine mammals, including the identification of behaviors;

Sufficient training, orientation, or experience with the construction operation to provide for personal safety during observations;

Writing skills sufficient to prepare a report of observations including but not limited to the number and species of marine mammals observed; dates and times when in-water construction activities were conducted; dates, times, and reason for implementation of mitigation (or why mitigation was not implemented when required); and marine mammal behavior;

Ability to communicate orally, by radio or in person, with project personnel to provide real-time information on marine mammals observed in the area as necessary; and

Sufficient training, orientation, or experience with the construction operations to provide for personal safety during observations.

Reporting of Injured or Dead Marine Mammals

In the unanticipated event that the planned activity clearly causes the take of a marine mammal in a manner prohibited by the IHA, such as serious injury, or mortality, the USACE would immediately cease the specified activities and report the incident to the NMFS Office of Protected Resources and the West Coast Region Stranding Coordinator. The report would include the following information:

Time and date of the incident;

Description of the incident;

Environmental conditions (e.g., wind speed and direction, Beaufort sea state, cloud cover, and visibility);

Description of all marine mammal observations and active sound source use in the 24 hours preceding the incident;

Species identification or description of the animal(s) involved;

Fate of the animal(s); and

Photographs or video footage of the animal(s).

Activities would not resume until NMFS is able to review the circumstances of the prohibited take. NMFS would work with USACE to determine what measures are necessary to minimize the likelihood of further prohibited take and ensure MMPA compliance. The USACE would not resume their activities until notified by NMFS.

In the event the USACE discovers an injured or dead marine mammal, and the lead observer determines that the cause of the injury or death is unknown and the death is relatively recent (e.g., in less than a moderate state of decomposition), the USACE would immediately report the incident to the Office of Protected Resources, NMFS, and the West Coast Region Stranding Coordinator, NMFS. The report would include the same information as the bullets described above. Activities would continue while NMFS reviews the circumstances of the incident. NMFS would work with the USACE to determine whether additional mitigation measures or modifications to the activities are appropriate.

In the event that the USACE discovers an injured or dead marine mammal, and the lead observer determines that the injury or death is not associated with or related to the specified activities (e.g., previously wounded animal, carcass with moderate to advanced decomposition, or scavenger damage), the USACE would report the incident to the Office of Protected Resources, NMFS, and the West Coast Region Stranding Coordinator, NMFS, within 24 hours of the discovery.

Final Report

The USACE would submit a draft report to NMFS no later than 90 days following the end of construction activities or 60 days prior to the issuance of any subsequent IHA for the project. PSO datasheets/raw sightings data would be required to be submitted with the reports. The USACE would provide a final report within 30 days following resolution of NMFS' comments on the draft report. Reports would contain, at minimum, the following:

Date and time that monitored activity begins and ends for each day conducted (monitoring period);

Construction activities occurring during each daily observation period, including how many and what type of piles driven;

Deviation from initial proposal in pile numbers, pile types, average driving times, etc.;

Weather parameters in each monitoring period (e.g., wind speed, percent cloud cover, visibility);

Water conditions in each monitoring period (e.g., sea state, tide state);

For each marine mammal sighting: species, numbers, and, if possible, sex and age class of marine mammals; number of individuals of each species (differentiated by month as appropriate) detected within the monitoring zones, and estimates of number of marine mammals taken, by species (a correction factor may be applied to total take numbers, as appropriate); description of any observable marine mammal behavior patterns, including bearing and direction of travel and distance from pile driving activity; type of construction activity that was taking place at the time of sighting; location and distance from pile driving activities to marine mammals and distance from the marine mammals to the observation point; and if shutdown was implemented, behavioral reactions noted and if they occurred before or after shutdown.

Description of implementation of mitigation measures within each monitoring period (e.g., shutdown or delay);

Other human activity in the area within each monitoring period; and

A summary of the following: total number of individuals of each species detected within the Level B Harassment Zone, and estimated as taken if correction factor appropriate (Level B harassment takes must be extrapolated based upon the number of observed takes and the percentage of the Level B Harassment Zone that was not visible); total number of individuals of each species detected within the Level A Harassment Zone and the average amount of time that they remained in that zone; and daily average number of individuals of each species (differentiated by month as appropriate) detected within the Level B Harassment Zone, and estimated as taken, if appropriate.

Preliminary Determinations

The USACE's proposed in-water construction activities as well as the proposed mitigation, monitoring, and reporting requirements are unchanged from those in the initial Year 1 and Year 2 IHAs. The anticipated effects of the activities on the affected species and stocks and the estimated take of each species and stock also remain unchanged. When issuing the initial IHAs, NMFS found that each year of the Coos Bay North Jetty Maintenance and Repairs Project would have a negligible impact to species or stocks' rates of recruitment and survival and the amount of taking would be small relative to the population size of such species or stock (less than 10 percent). In conclusion, there is no new information suggesting that our analysis or findings should change.

Based on the information contained here and in the referenced documents, NMFS has preliminarily determined the following for each IHA: (1) the required mitigation measures will effect the least practicable impact on marine mammal species or stocks and their habitat; (2) the proposed authorized takes will have a negligible impact on the affected marine mammal species or stocks; (3) the proposed authorized takes represent small numbers of marine mammals relative to the affected stock abundances; (4) the USACE's activities will not have an unmitigable adverse impact on taking for subsistence purposes as no relevant subsistence uses of marine mammals are implicated by this action; and (5) appropriate monitoring and reporting requirements are included.

Endangered Species Act (ESA)

Section 7(a)(2) of the Endangered Species Act of 1973 (ESA: 16 U.S.C. 1531 et seq.) requires that each Federal agency insure that any action it authorizes, funds, or carries out is not likely to jeopardize the continued existence of any endangered or threatened species or result in the destruction or adverse modification of designated critical habitat. No take of ESA-listed marine mammals are authorized. Therefore, NMFS has determined that consultation under section 7 of the ESA is not required for this action.

Proposed Authorization

As a result of these preliminary determinations, NMFS proposes to issue two IHAs to the USACE for conducting the North Jetty Maintenance and Repairs Project in Coos Bay, Oregon over the course of two non-consecutive years, beginning September 2022 through February 2025, with the previously mentioned mitigation, monitoring, and reporting requirements incorporated. A draft of the proposed IHAs can be found at https://www.fisheries.noaa.gov/permit/incidental-take-authorizations-under-marine-mammal-protection-act.

Request for Public Comments

We request comment on our analyses (included in both this document and the referenced documents supporting the initial IHAs), the proposed authorizations, and any other aspect of this Notice of Proposed IHAs for the proposed North Jetty Maintenance and Repairs Project. We also request comment on the potential for renewal of this proposed IHA as described in the paragraph below. Please include with your comments any supporting data or literature citations to help inform our final decision on the request for MMPA authorization.

On a case-by-case basis, NMFS may issue a one-time, one-year renewal IHA following notice to the public providing an additional 15 days for public comments when (1) up to another year of identical or nearly identical activities as described in the Description of Proposed Activities and Anticipated Impacts section of this notice is planned or (2) the activities as described in the Description of Proposed Activities and Anticipated Impacts section of this notice would not be completed by the time the IHA expires and a renewal would allow for completion of the activities beyond that described in this notice, provided all of the following conditions are met:

• A request for renewal is received no later than 60 days prior to the needed renewal IHA effective date (recognizing that the renewal IHA expiration date cannot extend beyond one year from expiration of the initial IHA).

• The request for renewal must include the following:

(1) An explanation that the activities to be conducted under the requested renewal IHA are identical to the activities analyzed under the initial IHA, are a subset of the activities, or include changes so minor (e.g., reduction in pile size) that the changes do not affect the previous analyses, mitigation and monitoring requirements, or take estimates (with the exception of reducing the type or amount of take).

(2) A preliminary monitoring report showing the results of the required monitoring to date and an explanation showing that the monitoring results do not indicate impacts of a scale or nature not previously analyzed or authorized.

Upon review of the request for renewal, the status of the affected species or stocks, and any other pertinent information, NMFS determines that there are no more than minor changes in the activities, the mitigation and monitoring measures will remain the same and appropriate, and the findings in the initial IHA remain valid.

Dated: July 8, 2022.
Kimberly Damon-Randall,
Director, Office of Protected Resources, National Marine Fisheries Service.

[FR Doc. 2022-14955 Filed 7-12-22; 8:45 am]

BILLING CODE 3510-22-P